DEPARTMENT OF ENERGY

Federal Energy Regulatory Commission

[Docket No. PR02-14-000]

Bridgeline Gas Distribution LLC; Notice of Petition for Rate Approval

April 11, 2002.

Take notice that on March 29, 2002, Bridgeline Gas Distribution LLC (Bridgeline) filed pursuant to section 284.123(b)(2) of the Commission's regulations, a petition for rate approval requesting that the Commission approve the proposed rates as fair and equitable for transportation and storage services performed under section 311 of the Natural Gas Policy Act of 1978 (NGPA). Bridgeline proposes an effective date of March 29, 2002.

Bridgeline states that it is a local distribution company with a blanket certificate issued in Docket No. CP93-190 authorizing it to engage in NGPA Section 311 services as if it were an intrastate pipeline. Bridgeline owns and operates transportation and storage facilities in the State of Louisiana.

Pursuant to section 284.123(b)(2)(ii), if the Commission does not act within 150 days of the date of this filing, the rates will be deemed to be fair and equitable and not in excess of an amount which interstate pipelines would be permitted to charge for similar transportation service. The Commission may, prior to the expiration of the 150 day period, extend the time for action or institute a proceeding to afford parties an opportunity for written comments and for the oral presentation of views, data, and arguments.

Any person desiring to participate in this rate proceeding must file a motion to intervene or protest with the Federal Energy Regulatory Commission, 888 First Street, NE., Washington DC 20426, in accordance with sections 385.214 or 385.211 of the Commission's rules and regulations. All such motions or protests must be filed with the Secretary of the Commission on or before April 26, 2002. Protests will be considered by the Commission in determining the appropriate action to be taken, but will not serve to make protestants parties to the proceedings. Any person wishing to become a party must file a motion to intervene. This petition for rate approval is on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Deputy Secretary.

[FR Doc. 02-9287 Filed 4-16-02; 8:45 am]

BILLING CODE 6717-01-P